DEPARTMENT OF VETERANS AFFAIRS

[OMB Control No. 2900-0749]

Agency Information Collection (Disability Benefits Questionnaires) Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before October 25, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0749” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0749”.

SUPPLEMENTARY INFORMATION: Titles:

a. Ischemic Heart Disease (IHD) Disability Benefits Questionnaire, VA Form 21-0960a-1.

b. Hairy Cell and Other B-Cell Leukemias Disability Benefits Questionnaire, VA Form 21-0960b-1.

c. Parkinson's Disease Disability Benefits Questionnaire, VA Form 21-0960c-1.

OMB Control Number: 2900-0749.

Type of Review: Extension of a currently approved collection.

Abstract: VA Forms 21-0960a-1, 21-0960b-1, and 21-0960b-1 are used to expedite claims for the following presumptive diseases based on herbicide exposure: Hairy Cell and Other Chronic B-cell Leukemias, Parkinson's and Ischemic Heart diseases. Veterans have the option of providing the forms to their private physician for completion and submission to VA in lieu of scheduling a VA medical examination. The data collected will be used to adjudicate Veteran's claim for disability benefits.

An agency may not conduct or sponsor, and a person is not required to respond to a collection of information unless it displays a currently valid OMB control number. The Federal Register Notice with a 60-day comment period soliciting comments on this collection of information was published on June 13, 2013, at pages 35661-35662.

Affected Public: Individuals or households.

Estimated Annual Burden:

a. Ischemic Heart Disease (IHD) Disability Benefits Questionnaire, VA Form 21-0960a-1—13,750.

b. Hairy Cell and Other B-Cell Leukemias Disability Benefits Questionnaire, VA Form 21-0960b-1—500.

c. Parkinson's Disease Disability Benefits Questionnaire, VA Form 21-0960c-1—1,250.

Estimated Average Burden Per Respondent: 15 minutes for each form. Frequency of Response: On occasion.

Estimated Number of Respondents:

a. Ischemic Heart Disease (IHD) Disability Benefits Questionnaire, VA Form 21-0960a-1—55,000.

b. Hairy Cell and Other B-Cell Leukemias Disability Benefits Questionnaire, VA Form 21-0960b-1—2,000.

c. Parkinson's Disease Disability Benefits Questionnaire, VA Form 21-0960c-1—5,000.

Dated: September 20, 2013.
By direction of the Secretary.
Crystal Rennie,
VA Clearance Officer, U.S. Department of Veterans Affairs.

[FR Doc. 2013-23295 Filed 9-24-13; 8:45 am]

BILLING CODE 8320-01-P